DEPARTMENT OF LABOR

Employment and Training Administration

[TA-W-71,917]

Brown Shoe, Fredericktown, MO; Notice of Termination of Investigation

Pursuant to Section 223 of the Trade Act of 1974, as amended, an investigation was initiated in response to a petition filed on July 27, 2009, by a representative of Local 655 affiliated with United Food & Commercial Workers International Union on behalf of workers of Brown Shoe, Fredericktown, Missouri.

The petitioning group of workers is covered by an earlier petition (TA-W-71,828) filed on July 28, 2009, that is the subject of an ongoing investigation for which a determination has not yet been issued. Further investigation in this case would duplicate efforts and serve no purpose; therefore the investigation under this petition has been terminated.

Signed at Washington, DC, this 2nd day of September 2009.
Richard Church,
Certifying Officer, Division of Trade Adjustment Assistance.

[FR Doc. E9-29180 Filed 12-7-09; 8:45 am]

BILLING CODE 4510-FN-P